SECURITIES AND EXCHANGE COMMISSION

[File No. 500-1]

Channel America Television Network, Inc., EquiMed, Inc., Kore Holdings, Inc., Robotic Vision Systems, Inc. (n/k/a Acuity Cimatrix, Inc.), Security Investments Group, Inc., Shared Technologies Cellular, Inc., Shimoda Resources Holdings, Inc., Tri Star Holdings, Inc. (f/k/a Silver Star Foods, Inc.), and V-One Corp.; Order of Suspension of Trading

June 23, 2010.

It appears to the Securities and Exchange Commission that there is a lack of current and accurate information concerning the securities of Channel America Television Network, Inc. because it has not filed any periodic reports since the period ended December 31, 1994.

It appears to the Securities and Exchange Commission that there is a lack of current and accurate information concerning the securities of EquiMed, Inc. because it has not filed any periodic reports since the period ended September 30, 1997.

It appears to the Securities and Exchange Commission that there is a lack of current and accurate information concerning the securities of Kore Holdings, Inc. because it has not filed any periodic reports since the period ended September 30, 2005.

It appears to the Securities and Exchange Commission that there is a lack of current and accurate information concerning the securities of Robotic Vision Systems, Inc. (n/k/a Acuity Cimatrix, Inc.) because it has not filed any periodic reports since the period ended June 30, 2004.

It appears to the Securities and Exchange Commission that there is a lack of current and accurate information concerning the securities of Security Investments Group, Inc. because it has not filed any periodic reports since the period ended September 30, 1995.

It appears to the Securities and Exchange Commission that there is a lack of current and accurate information concerning the securities of Shared Technologies Cellular, Inc. because it has not filed any periodic reports since the period ended September 30, 2001.

It appears to the Securities and Exchange Commission that there is a lack of current and accurate information concerning the securities of Shimoda Resources Holdings, Inc. because it has not filed any periodic reports since the period ended August 31, 2003.

It appears to the Securities and Exchange Commission that there is a lack of current and accurate information concerning the securities of Tri Star Holdings, Inc. (f/k/a Silver Star Foods, Inc.) because it has not filed any periodic reports since the period ended December 31, 2003.

It appears to the Securities and Exchange Commission that there is a lack of current and accurate information concerning the securities of V-One Corp. because it has not filed any periodic reports since the period ended September 30, 2004.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on June 23, 2010, through 11:59 p.m. EDT on July 7, 2010.

By the Commission.
Jill M. Peterson,
Assistant Secretary.

[FR Doc. 2010-15586 Filed 6-23-10; 4:15 pm]

BILLING CODE 8010-01-P